DEPARTMENT OF TRANSPORTATION

Federal Aviation Administration

14 CFR Part 39

[Docket No. FAA-2017-0419; Directorate Identifier 2015-SW-077-AD]

RIN 2120-AA64

Airworthiness Directives; Airbus Helicopters

AGENCY: Federal Aviation Administration (FAA), DOT.

ACTION: Notice of proposed rulemaking (NPRM).

SUMMARY: We propose to adopt a new airworthiness directive (AD) for Airbus Helicopters (Airbus) Model AS332L2 and EC225LP helicopters. This proposed AD would require inspections of the main rotor (M/R) blade attachment pins (attachment pins). This proposed AD is prompted by a report of three cracked attachment pins. The proposed actions are intended to detect and prevent an unsafe condition on these products.

DATES: We must receive comments on this proposed AD by July 10, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0419; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

FOR FURTHER INFORMATION CONTACT: David Hatfield, Aviation Safety Engineer, Safety Management Group, Rotorcraft Directorate, FAA, 10101 Hillwood Pkwy, Fort Worth, TX 76177; telephone (817) 222-5116; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2015-0016, dated January 30, 2015, to correct an unsafe condition for Airbus Model AS 332 L2 and EC 225 LP helicopters with certain part-numbered attachment pins installed. EASA advises of three cracked attachment pins on a Model AS 332 L2 helicopter. According to EASA, the cracks resulted from a combination of factors including corrosion that had initiated in the inner diameter area of the attachment pin chamfer. EASA states that if this condition is not detected and corrected, it may lead to failure of the attachment pin with loss of control of the helicopter. Due to design similarity, Model EC225LP helicopters are also affected by this issue.

For these reasons, EASA AD No. 2015-0016 requires repetitive inspections of the attachment pins for corrosion.

FAA's Determination

These helicopters have been approved by the aviation authority of France and are approved for operation in the United States. Pursuant to our bilateral agreement with France, EASA, its technical representative, has notified us of the unsafe condition described in its AD. We are proposing this AD because we evaluated all known relevant information and determined that an unsafe condition is likely to exist or develop on other products of these same type designs.

Related Service Information Under 1 CFR Part 51

We reviewed Airbus Helicopters Alert Service Bulletin (ASB) No. AS332-05.00.99, Revision 0, dated December 22, 2014 (AS332-05.00.99), for Model AS332L2 helicopters and Airbus Helicopters ASB No. EC225-05A040, Revision 0, dated December 22, 2014 (EC225-05A040), for Model EC225LP helicopters. Airbus Helicopters advises of cracks discovered in attachment pins that resulted from a combination of factors, but mainly corrosion which initiated in the inner diameter at the chamfer. This service information specifies repetitively inspecting for corrosion and cracks and ensuring there are no corrosion pits in the attachment pins. If there is corrosion, this service information allows an attachment pin to be reworked up to four times before removing it from service. If there is a crack, this service information specifies contacting and sending the attachment pin to Airbus Helicopters.

This service information is reasonably available because the interested parties have access to it through their normal course of business or by the means identified in the ADDRESSES section.

Proposed AD Requirements

This proposed AD would require an initial and recurring inspection of each attachment pin for corrosion, a crack, and any pitting. If there is a crack or any pitting, this proposed AD would require replacing the attachment pin. If there is corrosion, this proposed AD would require removing the corrosion up to a maximum of four times. This proposed AD would also require performing these inspections prior to installing an attachment pin.

Differences Between This Proposed AD and the EASA AD

The EASA AD does not require an inspection of the protective coating of each attachment pin for Model EC225LP helicopters. This proposed AD would require inspecting the protective coating of each attachment pin for both model helicopters. The EASA AD requires ensuring there are no corrosion pits without a corresponding corrective action. This proposed AD would require replacing an attachment pin that has any pitting. The EASA AD requires a non-destructive inspection if in doubt about whether there is a crack, while this proposed AD would not. Lastly, the EASA AD requires contacting and returning to Airbus Helicopters any attachment pin with a crack, and this proposed AD would not.

Costs of Compliance

We estimate that this proposed AD would affect 5 helicopters of U.S. Registry. We estimate that operators may incur the following costs in order to comply with this proposed AD. Labor costs are estimated at $85 per work-hour.

For Model AS332L2 helicopters, there would be no costs of compliance with this proposed AD because there are no helicopters with this type certificate on the U.S. Registry.

For Model EC225LP helicopters, which have ten attachment pins installed, inspecting the attachment pins would take about 1 work-hour for a total cost of $85 per helicopter and $425 for the U.S. fleet. Removing corrosion would take about 1 work-hour for a total cost of $85 per attachment pin. Replacing an attachment pin would take negligible additional labor time and required parts would cost about $5,720.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters: Docket No. FAA-2017-0419; Directorate Identifier 2015-SW-077-AD.

(a) Applicability

This AD applies to the following helicopters, certificated in any category:

(1) Model AS332L2 helicopters with a main rotor (M/R) blade attachment pin (attachment pin) part number (P/N) 332A31-2123-00 or P/N 332A31-2115-20 installed; and

(2) Model EC225LP helicopters with an attachment pin P/N 332A31-3204-20 installed.

(b) Unsafe Condition

This AD defines the unsafe condition as corrosion or a crack in an attachment pin. This condition could result in loss of an M/R blade and subsequent loss of control of the helicopter.

(c) Comments Due Date

We must receive comments by July 10, 2017.

(d) Compliance

You are responsible for performing each action required by this AD within the specified compliance time unless it has already been accomplished prior to that time.

(e) Required Actions

(1) For Model AS332L2 helicopters, within 410 hours time-in-service (TIS), and for Model EC225LP helicopters within 660 hours TIS, remove each attachment pin and inspect the protective coating on the inside of the attachment pin for scratches and missing protective coating.

(i) If there is a scratch or any missing protective coating, sand the attachment pin to remove the varnish in the area depicted as “Area A” in Figure 1 of Airbus Helicopters Alert Service Bulletin (ASB) No. AS332-05.00.99, Revision 0, dated December 22, 2014 (AS332-05.00.99), or Airbus Helicopters ASB No. EC225-05A040, Revision 0, dated December 22, 2014 (EC225-05A040), as applicable to your model helicopter.

(ii) Using a 10X or higher power magnifying glass, inspect for corrosion and pitting at the chamfer. An example of pitting is shown in the Accomplishment Instructions, paragraph 3.B.3., Note 1, of AS332-05.00.99, and paragraph 3.B.2., Note 1, of EC225-05A040. If there is any corrosion, remove the corrosion. If there is any pitting, replace the attachment pin. Do not sand the attachment pin to remove a corrosion pit.

(iii) Using a 10X or higher power magnifying glass, inspect the inside and outside of the attachment pin for a crack in the areas depicted as “Area A” and “Area B” in Figure 1 of AS332-05.00.99 or EC225-05A040, as applicable to your model helicopter. Pay particular attention to the chamfer in “Area A.” If there is a crack, remove the attachment pin from service.

(2) Thereafter, for Model AS332L2 helicopters, at intervals not to exceed 825 hours TIS or 26 months, whichever occurs first; and for Model EC225LP helicopters, at intervals not to exceed 1,320 hours TIS or 26 months, whichever occurs first; perform the actions specified in paragraph (e)(1) of this AD. Corrosion may be removed from an attachment pin as specified in paragraph (e)(1)(ii) of this AD a maximum of four times. If there is a fifth occurrence of corrosion on an attachment pin, before further flight, remove the attachment pin from service.

(3) Do not install an attachment pin P/N 332A31-2123-00, P/N 332A31-2115-20, or P/N 332A31-3204-20 on any helicopter unless you have complied with the actions in paragraph (e)(1) of this AD.

(f) Alternative Methods of Compliance (AMOCs)

(1) The Manager, Safety Management Group, FAA, may approve AMOCs for this AD. Send your proposal to: David Hatfield, Aviation Safety Engineer, Safety Management Group, Rotorcraft Directorate, FAA, 10101 Hillwood Pkwy., Fort Worth, TX 76177; telephone (817) 222-5116; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2015-0016, dated January 30, 2015. You may view the EASA AD on the Internet at http://www.regulations.gov in the AD Docket.

(h) Subject

Joint Aircraft Service Component (JASC) Code: 6200, Main Rotor System.

Issued in Fort Worth, Texas, on April 27, 2017.
Scott A. Horn,
Acting Manager, Rotorcraft Directorate, Aircraft Certification Service.

[FR Doc. 2017-09378 Filed 5-10-17; 8:45 am]

BILLING CODE 4910-13-P